DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. chapter 35). To request a copy of the clearance requests submitted to OMB for review, email paperwork@hrsa.gov or call the HRSA Reports Clearance Officer at (301) 443-0165.

The following request has been submitted to the Office of Management and Budget for review under the Paperwork Reduction Act of 1995.

Proposed Project: Health Professions Student Loan (HPSL) Program and Nursing Student Loan (NSL) Program Administrative Requirements (Regulations and Policy) (OMB No. 0915-0047)—[Extension]

The regulations for the Health Professions Student Loan (HPSL) Program and Nursing Student Loan (NSL) Program contain a number of reporting and recordkeeping requirements for schools and loan applicants. The requirements are essential for assuring that borrowers are aware of rights and responsibilities, know the history and status of each loan account in order to pursue aggressive collection efforts to reduce default rates, and that they maintain adequate records for audit and assessment purposes. Schools are free to use improved information technology to manage the information required by the regulations.

The estimated total burden is 49,487 hours. The burden estimates are as follows:

Recordkeeping Requirements
Regulatory/section requirements | Number of record-keepers | Hours per year | Total burden hours
HPSL Program:
57.206(b)(2), Documentation of Cost of Attendance | 435 | 1.17 | 509
57.208(a), Promissory Note | 435 | 1.25 | 544
57.210(b)(1)(i), Documentation of Entrance Interview | 435 | 1.25 | 544
57.210(b)(1)(ii), Documentation of Exit Interview | * 477 | 0.33 | 157
57.215(a) & (d), Program Records | * 477 | 10 | 4,770
57.215(b), Student Records | * 477 | 10 | 4,770
57.215(c), Repayment Records | * 477 | 18.75 | 8,944
HPSL Subtotal |  |  | 20,238
NSL Program:
57.306(b)(2)(ii), Documentation of Cost of Attendance | 304 | 0.3 | 91
57.308(a), Promissory Note | 304 | 0.5 | 152
57.310(b)(1)(i), Documentation of Entrance Interview | 304 | 0.5 | 152
57.310(b)(1)(ii), Documentation of Exit Interview | * 486 | 0.17 | 83
57.315(a)(1) & (a)(4), Program Records | * 486 | 5 | 2,430
57.315(a)(2), Student Records | * 486 | 1 | 486
57.215(b)(3), Repayment Records | * 486 | 2.51 | 1,220
NSL Subtotal |  |  | 4,614
* Includes active and closing schools.
HPSL data include active and closing Loans for Disadvantaged Students (LDS) program schools.

Reporting Requirements
Regulatory/Section requirements | Number of respondents | Responses per respondent | Total annual responses | Hours per response | Total burden hours
HPSL:
57.206(a)(2), Student Financial Aid Transcript | 4,600 | 1 | 4,600 | 0.25 | 1,150
57.208(c), Loan Information Disclosure | 435 | 68.73 | 29,898 | 0.0833 | 2,490
57.210(b)(1)(i), Entrance Interview | 435 | 68.73 | 29,898 | 0.167 | 4,993
57.210(b)(1)(ii), Exit Interview | * 477 | 12 | 5,724 | 0.5 | 2,862
57.210(b)(1)(iii), Notification of Repayment | * 477 | 30.83 | 14,706 | 0.167 | 2,456
57.210(b)(1)(iv), Notification During Deferment | * 477 | 24.32 | 11,601 | 0.0833 | 966
57.210(b)(1)(vi), Notification of Delinquent Accounts | * 477 | 10.28 | 4,904 | 0.167 | 819
57.210(b)(1)(x), Credit Bureau Notification | * 477 | 8.03 | 3,830 | 0.6 | 2,298
57.210(b)(4)(i), Write-off of Uncollectable Loans | 20 | 1 | 20 | 3 | 60
57.211(a), Disability Cancellation | 10 | 1 | 10 | 0.75 | 8
57.215(a)(2), Administrative Hearings | 0 | 0 | 0 | 0 | 0
57.215(a)(d), Administrative Hearings | 0 | 0 | 0 | 0 | 0
HPSL Subtotal |  |  |  |  | 18,102
NSL:
57.306(a)(2), Student Financial Aid Transcript | 4,100 | 1 | 4,100 | 0.25 | 1,025
57.310(b)(1)(i), Entrance Interview | 304 | 23.51 | 7,147 | 0.167 | 1,193
57.310(b)(1)(ii), Exit Interview | * 486 | 3.77 | 1,832 | 0.5 | 916
57.310(b)(1)(iii), Notification of Repayment | * 486 | 6.18 | 3,003 | 0.167 | 501
57.310(b)(1)(iv), Notification During Deferment | * 486 | 0.65 | 316 | 0.083 | 26
57.310(b)(1)(vi), Notification of Delinquent Accounts | * 486 | 4.61 | 2,240 | 0.167 | 374
57.310(b)(1)(x), Credit Bureau Notification | * 486 | 8.3 | 4,034 | 0.6 | 2,420
57.310(b)(4)(i), Write-off of Uncollectable Loans | 20 | 1 | 20 | 3.5 | 70
57.311(a), Disability Cancellation | 10 | 1 | 10 | 0.8 | 8
57.315(a)(1)(ii), Administrative Hearings | 0 | 0 | 0 | 0 | 0
57.316(a)(d), Administrative Hearings | 0 | 0 | 0 | 0 | 0
NSL Subtotal |  |  |  |  | 6,533
* Includes active and closing schools.

Written comments and recommendations concerning the proposed information collection should be sent within 30 days of this notice to the desk officer for HRSA, either by email to OIRA_submission@omb.eop.gov or by fax to (202) 395-6974. Please direct all correspondence to the “attention of the desk officer for HRSA.”

Dated: November 15, 2011.
Reva Harris,
Acting Director, Division of Policy and Information Coordination.

[FR Doc. 2011-29981 Filed 11-18-11; 8:45 am]

BILLING CODE 4165-15-P